DEPARTMENT OF JUSTICE

Notice of Lodging of Consent Decree Under the Clean Air Act (CAA)

In accordance with 28 CFR 50.7, notice is given that on July 20, 2007, the proposed Consent Decree in United States v. E.I. du Pont de Nemours & Co., Civil Action Number 1:07CV558, was lodged with the United States District Court for the Southern District of Ohio.

In this action, the United States alleges that E.I. du Pont de Nemours & Co. (DuPont) violated these provisions of the Clean Air Act: standards of performance for new stationary sources, 42 U.S.C. 7411, also known as New Source Performance Standards (“NSPS”) preconstruction requirements, 42 U.S.C. 7475, also known as Prevention of Significant Deterioration (“PSD”) requirements; and permit requirements, 42 U.S.C. 7503, also known as Title V requirements. The claims relate to four DuPont sulfuric acid manufacturing plants that are located in Darrow, La.; North Bend, Ohio; Richmond, Va., and Wurtland, Ky.

The Consent Decree requires DuPont to pay a civil penalty of $4,125,000 of which $2,100,000 (60 percent) will be paid to the United States and the rest will be divided among the State of Louisiana, the State of Ohio, and the Commonwealth of Virginia. The Consent Decree further requires DuPont, at all four plants, to meet certain emission limits (for sulfur dioxide and acid mist) and to comply with applicable NSPS requirements (including performance testing and monitoring). At the plant in Louisiana, DuPont will comply with the new emission limits by installing pollution control technology. At each of the other three plants, the Consent Decree provides DuPont an option to install the required technology or to cease operations and surrender the air pollution permits and/or emissions credits.

For a period of thirty (30) days from the date of this publication, the Department of Justice will receive comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. E.I. du Pont de Nemours & Co., D.J. Ref. 90-5-2-1-08181.

The proposed Consent Decree may be examined at the Office of the United States Attorney, 221 E. 4th St., Suite 400, Cincinnati, Ohio 45202, and at U.S. EPA Region V, 77 W. Jackson Blvd., Chicago, IL 60604. During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $14.50 (25 cents per page reproduction cost) payable to the “U.S. Treasury” or, if by e-mail or fax, forward a check in that amount to the Consent Decree Library at the stated address.

William D. Brighton,
Assistant Section Chief, Environmental Enforcement Section, Environment and Natural Resources Division.

[FR Doc. 07-3648 Filed 7-25-07; 8:45 am]

BILLING CODE 4410-15-M